NATIONAL AERONAUTICS AND SPACE ADMINISTRATION

[Notice (03-028)]

Notice of Prospective Patent License

AGENCY: National Aeronautics and Space Administration.

ACTION: Notice of Prospective Patent License.

SUMMARY: NASA hereby gives notice that Critical Care Innovations, Inc., having offices in Chantilly, Virginia, has applied for a partially exclusive license to practice the invention described and claimed in U.S. Patent No. 5,869,238, entitled “Quantitative Method of Measuring Metastatic Activity,” and in continuations, divisional applications, and foreign applications corresponding to this case. The 5,869,238 patent is assigned to the United States of America as represented by the Administrator of the National Aeronautics and Space Administration. Written objections to the prospective grant of a license should be sent to the Johnson Space Center.

DATES: Responses to this notice must be received by March 19, 2003.

FOR FURTHER INFORMATION CONTACT: James Cate, Patent Attorney, NASA Johnson Space Center, Mail Stop HA, Houston, TX 77058-8452; telephone (281) 483-1001.

Dated: February 26, 2003.
Robert M. Stephens,
Deputy General Counsel.

[FR Doc. 03-5042 Filed 3-3-03; 8:45 am]

BILLING CODE 7510-01-P